DEPARTMENT OF TRANSPORTATION

Federal Aviation Administration

[Docket No. FAA-2022-0083]

Agency Information Collection Activities: Request for Comments; Substantive Change to Multiple Previously Approved Collections: Aircraft Registration, Recording of Aircraft Conveyances and Security Documents, FAA Entry Point Filing Form—International Registry, and Dealer's Aircraft Registration Certificate Application

AGENCY: Federal Aviation Administration (FAA), DOT.

ACTION: Notice and request for comments.

SUMMARY: In accordance with the Paperwork Reduction Act of 1995, FAA invites public comments about our intention to request Office of Management and Budget (OMB) approval of a substantive change to multiple previously approved information collections. The FAA Reauthorization Act of 2018, Section 546, requires the implementation of systems allowing a member of the public to submit any information or form to the Registry and conduct any transaction with the Registry by electronic or other remote means. In response to this requirement, the FAA created Civil Aviation Registry Electronic Services (CARES) and intends to change its current information collection to accommodate electronic registry applications.

DATES: Written comments should be submitted by March 28, 2022.

ADDRESSES: Please send written comments:

By Electronic Docket: https://www.regulations.gov (Enter docket number into search field)

By mail: Kevin West, Acting Manager, Aircraft Registration Branch, AFB-710, PO Box 25504, Oklahoma City OK 73125

By fax: 405-954-8068

FOR FURTHER INFORMATION CONTACT: Bonnie Lefko by email at: bonnie.lefko@faa.gov. Include docket number in the subject line of the message. By phone at: 405-954-7461.

SUPPLEMENTARY INFORMATION: Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Numbers: 2120-0042, 2120-0043, 2120-0697 and 2120-0024.

Titles: Aircraft Registration, Recording of Aircraft Conveyances and Security Documents, FAA Entry Point Filing Form—International Registry, and Dealer's Aircraft Registration Certificate Application.

Form Numbers: AC Forms: 8050-1; 8050-1B; 8050-2; 8050-4; 8050-5; 8050-41; 8050-88; 8050-88A; 8050-98; 8050-117; 8050-135.

Type of Review: Substantive Change to Previously Approved Collections:

(1) 2120-0042, Aircraft Registration Application, AC Form 8050-1

(2) 2120-0042, Aircraft Registration Renewal Application, AC Form 8050-1B

(3) 2120-0042, Aircraft Bill of Sale, AC Form 8050-2

(4) 2120-0042, Certificate of Repossession of Encumbered Aircraft, AC Form 8050-4

(5) 2120-0024, Dealer's Aircraft Registration Certificate Application, AC Form 8050-5

(6) 2120-0043, Notice of Recordation—Aircraft Security Conveyance, AC Form 8050-41

(7) 2120-0042, Affidavit of Ownership, AC Form 8050-88

(8) 2120-0042, Affidavit of Ownership Light-Sport Aircraft, AC Form 8050-88A

(9) 2120-0042, Aircraft Security Agreement, AC Form 8050-98

(10) 2120-0042, Flight Hours for Corporations, AC Form 8050-117

(11) 2120-0697, International Registry Entry Form, AC Form 8050-135

Background: Public Law 103-272 states that all aircraft must be registered before they may be flown. It sets forth registration eligibility requirements and provides for application for registration as well as suspension and/or revocation of registration. The information collected is used by the FAA to register an aircraft and record a security interest in a registered aircraft.

The FAA Reauthorization Act of 2018 (Pub. L. 115-254 or The Act), Section 546, “FAA Civil Aviation Registry Upgrade”, requires:

1. The digitization of non-digital Registry information, including paper documents, microfilm images, and photographs, from an analog or non-digital format to a digital format;

2. The digitalization of Registry manual and paper-based processes, business operations, and functions by leveraging digital technologies and a broader use of digitized data;

3. The implementation of systems allowing a member of the public to submit any information or form to the Registry and conduct any transaction with the Registry by electronic or other remote means; and

4. Allowing more efficient, broader, and remote access to the Registry.

In response to The Act, the FAA has initiated the creation of Civil Aviation Registry Electronic Services (CARES). CARES is intended to modernize and streamline the way these forms are submitted by providing online access to users wishing to submit information electronically. Public users will continue to have the paper-based submission option by providing the same information that is accepted today, along with the addition of an email address.

To accommodate the public user with these web-based services, a dedicated online user account must first be established. CARES will leverage an existing FAA Single Sign-On (SSO) capability known as MyAccess. MyAccess will be used to generate online public user accounts, and also serve as part of the user account sign-on and authentication process after a user account has been created.

As an alternative to the web-based services, public users will still be permitted to send in paper forms directly to the Registry office via conventional mail services. These paper forms will be revised to collect the email address of the public user to help streamline processing of the public users' request. The modified paper forms will supersede all prior forms.

Respondents: Approximately 162,176 applicants for 2120-0042; 3,670 applicants for 2120-0024; 22,370 applicants for 2120-0043; and 14,360 applicants for 2120-0697.

Frequency: Information is collected on occasion for 2120-0042, 2120-0043 and 2120-0697; annually to maintain a certificate for 2120-0024.

Estimated Average Burden per Response: 32 minutes for 2120-0042; 45 minutes for 2120-0024; 1 hour for 2120-0043; and 30 minutes for 2120-0697.

Estimated Total Annual Burden: 135,457 hours for 2120-0042; 2753 hours for 2120-0024; 22,370 hours for 2120-0043; and 7,180 hours for 2120-0697.

Issued in Oklahoma City, OK, on January 21 2022.
Bonnie Lefko,
Program Analyst, Civil Aviation Registry, Aircraft Registration Branch, AFB-710.

[FR Doc. 2022-01534 Filed 1-26-22; 8:45 am]

BILLING CODE 4910-13-P